DEPARTMENT OF COMMERCE

Bureau of Industry and Security

15 CFR Part 744

[Docket No. 221209-0267]

RIN 0694-AJ04

Additions and Revisions to the Entity List and Conforming Removal From the Unverified List

AGENCY: Bureau of Industry and Security, Department of Commerce.

ACTION: Final rule.

SUMMARY: The Department of Commerce is amending the Export Administration Regulations (EAR) by adding thirty-six entities to the Entity List. These entities have been determined by the U.S. Government to be acting contrary to the national security or foreign policy interests of the United States and will be listed on the Entity List under the destinations of the People's Republic of China (China) and Japan. This rule also revises three entries on the Entity List under the destination of China. Lastly, as a conforming change to the addition of one entity to the Entity List under the destination of China, this rule removes this entity from the Unverified List (UVL). The entity is being added to the Entity List for reasons not related to the prevention of an end-use check and is removed from the UVL for consistency with the existing policy of not listing an entity on more than one of these lists at the same time.

DATES: This rule is effective December 16, 2022.

FOR FURTHER INFORMATION CONTACT: For questions about the Entity List, contact: Chair, End-User Review Committee, Office of the Assistant Secretary for Export Administration, Bureau of Industry and Security, Department of Commerce, Phone: (202) 482-5991, Email: ERC@bis.doc.gov; and for questions about the UVL, contact Linda Minsker, Director, Office of Enforcement Analysis, Phone: (202) 482-4255, Email: UVLRequest@bis.doc.gov.

SUPPLEMENTARY INFORMATION:

Background

The Entity List (supplement no. 4 to part 744 of the EAR (15 CFR parts 730-774)) identifies entities for which there is reasonable cause to believe, based on specific and articulable facts, that the entities have been involved, are involved, or pose a significant risk of being or becoming involved in activities contrary to the national security or foreign policy interests of the United States, pursuant to § 744.11(b). The EAR impose additional license requirements on, and limit the availability of, most license exceptions for exports, reexports, and transfers (in-country) when a listed entity is a party to the transaction. The license review policy for each listed entity is identified in the “License Review Policy” column on the Entity List, and the impact on the availability of license exceptions is described in the relevant Federal Register document that added the entity to the Entity List. The Bureau of Industry and Security (BIS) places entities on the Entity List pursuant to part 744 (Control Policy: End-User and End-Use Based) and part 746 (Embargoes and Other Special Controls) of the EAR.

The End-User Review Committee (ERC), composed of representatives of the Departments of Commerce (Chair), State, Defense, Energy and, where appropriate, the Treasury, makes all decisions regarding additions to, removals from, or other modifications to the Entity List. The ERC makes all decisions to add an entry to the Entity List by majority vote and makes all decisions to remove or modify an entry by unanimous vote.

Entity List Decisions

Additions to the Entity List

The ERC determined to add Anhui Cambricon Information Technology Co., Ltd.; Cambricon (Hong Kong) Co., Ltd.; Cambricon (Kunshan) Information Technology Co., Ltd.; Cambricon Jixingge (Nanjing) Technology Co., Ltd.; Cambricon (Nanjing) Information Technology Co., Ltd.; Cambricon Technologies Corporation Limited; Cambricon (Xi'an) Integrated Circuit Co., Ltd.; CETC Cloud (Beijing) Technology Co., Ltd.; CETC LES Information System Group Co., Ltd.; China Electronics Technology Group Corporation No. 28 Institute; Chinese Academy of Sciences Institute of Computing Technology; Guangdong Qinzhi Technology Research Institute Co., Ltd.; Key Laboratory of Information Systems Engineering; Nanjing Aixi Information Technology Co., Ltd.; Nanjing LES Cybersecurity and Information Technology Research Institute Co., Ltd.; Nanjing LES Electronic Equipment Co., Ltd.; Nanjing LES Information Technology Co., Ltd.; Shanghai Cambricon Information Technology Co., Ltd.; Suzhou Cambricon Information Technology Co., Ltd.; System Equipment Co., Ltd. of the 28th Research Institute (Liyang); and Xiong'an Cambricon Technology Co., Ltd. under the destination of China to the Entity List for acquiring and attempting to acquire U.S.-origin items in support of China's military modernization. These entities are major artificial intelligence (AI) chip research and development, manufacturing and sales entities. These entities are, or have close ties to, government organizations that support the Chinese military and the defense industry. This activity is contrary to the national security and foreign policy interests of the United States under § 744.11(b) of the EAR. These entities are added with a license requirement for all items subject to the EAR with a footnote 4 designation with a reference to the Entity List foreign “direct product” (FDP) rule in the license requirements column of the Entity List (see §§ 734.9(e)(2) and 744.11 of the EAR). These entities are added with a license review policy of presumption of denial for all items subject to the EAR.

The ERC determined to add Shanghai Integrated Circuit Research and Development Center and Shanghai Micro Electronics Equipment (Group) Co., Ltd. under the destination of China to the Entity List for acquiring and attempting to acquire U.S.-origin items in support of China's military modernization. This activity is contrary to the national security and foreign policy interests of the United States under § 744.11(b) of the EAR. These entities are added with a license requirement for all items subject to the EAR and a license review policy of presumption of denial for all items subject to the EAR. Another BIS rule published in this same issue of the Federal Register is removing Shanghai Micro Electronics Equipment (Group) Co., Ltd. from the UVL for the reasons noted in the other rule. This entity is being added to the Entity List for reasons not related to the prevention of an end-use check.

The ERC determined to add PXW Semiconductor Manufactory Co., Ltd. under the destination of China to the Entity List for posing a significant risk of becoming involved in activities contrary to the national security or foreign policy interests of the United States. This determination is based on information that this company represents a risk of diversion to a party on the BIS Entity List. This activity is contrary to the national security or foreign policy interests of the United States under § 744.11(b) of the EAR. The ERC determined that the conduct of PXW Semiconductor Manufactory Co., Ltd. raises sufficient concern that prior review of exports, reexports, or transfers (in-country) of items subject to the EAR involving this entity, and the possible imposition of license conditions or license denials on shipments to the entity, will enhance BIS's ability to prevent violations of the EAR. This entity is added with a license requirement for all items subject to the EAR and a license review policy of presumption of denial for all items subject to the EAR.

The agencies represented on the ERC determined to add Yangtze Memory Technologies Co., Ltd. and Hefei Core Storage Electronic Limited under the destination of China and Yangtze Memory Technologies (Japan) Inc. under the destination of Japan to the Entity List for posing a significant risk of becoming involved in activities contrary to the national security or foreign policy interests of the United States. This request is based on information indicating that these companies present a risk of diversion to parties on the Entity List, to include Huawei Technologies Co., Ltd., and Hangzhou Hikvision Digital Technology Co., Ltd. This activity is contrary to the national security or foreign policy interests of the United States under § 744.11(b) of the EAR. The agencies represented on the ERC determined that prior review of exports, reexports, or transfers (in-country) of items subject to the EAR involving these entities, and the possible imposition of license conditions or license denials on shipments to the entity, will enhance BIS's ability to prevent violations of the EAR. These entities are added with a license requirement for all items subject to the EAR and a license review policy of presumption of denial for all items subject to the EAR.

The ERC determined to add AVIC Research Institute for Special Structures of Aeronautical Composites; AZUP International Group Co., Ltd.; Beijing HiFar Technology Co., Ltd.; Beijing Machinery Industry Automation Research Institute Co., Ltd.; Beijing Vision Strategy Technology Co., Ltd.; Shanghai Suowei Information Technology Co., Ltd.; and Zhongke Xinliang (Beijing) Technology Co., Ltd. to the Entity List. These entities are added for acquiring and attempting to acquire U.S.-origin items in support of China's military modernization. These entities have demonstrable ties to activities of concern, including: hypersonic weapons development, design and modeling of vehicles in hypersonic flight; designing and producing ballistic missile radomes, using proprietary software to model weapons design and damage; and otherwise supporting military-civil fusion efforts tied to the People's Liberation Army Air Force and Navy. This activity is contrary to the national security and foreign policy interests of the United States under § 744.11(b) of the EAR. These entities are added with a license requirement for all items subject to the EAR and a license review policy of presumption of denial for all items subject to the EAR.

The ERC determined to add Beijing UniStrong Science & Technology Co., Ltd. to the Entity List under the destination of China, for activity contrary to the national security or foreign policy interests of the United States. Specifically, Beijing UniStrong Science & Technology Co., Ltd. facilitated the illegal export of U.S.-origin electronics, controlled under Export Control Classification Number (ECCN) 7A994, to Iran for use in the production of military unmanned aerial vehicles and missile systems used in attacks throughout the Middle East. This activity is contrary to the national security or foreign policy interests of the United States under § 744.11(b) of the EAR. This entity is added with a license requirement for all items subject to the EAR and a license review policy of presumption of denial for all items subject to the EAR.

The ERC determined, pursuant to § 744.11(b) of the EAR, to add Tianjin Tiandi Weiye Technologies Co., Ltd. under the destination of China to the Entity List for engaging in or enabling activities contrary to U.S. foreign policy interests. Specifically, this entity has been implicated in human rights violations and abuses in the implementation of China's campaign of repression, mass arbitrary detention, and high-technology surveillance against Uyghurs, Kazakhs, and other members of Muslim minority groups in the Xinjiang Uyghur Autonomous Region (XUAR). This entity also has enabled the procurement of U.S.-origin items for use by the Islamic Revolutionary Guard Corps. These activities are contrary to U.S. national security and foreign policy interests under § 744.11(b) of the EAR. This entity is added with a license requirement for all items subject to the EAR and a license review policy of presumption of denial for all items subject to the EAR.

For the reasons described above, this final rule adds the following thirty-six entities to the Entity List and includes, where appropriate, aliases:

China

• Anhui Cambricon Information Technology Co., Ltd.,

• AVIC Research Institute for Special Structures of Aeronautical Composites,

• AZUP International Group Co., Ltd.,

• Beijing HiFar Technology Co., Ltd.,

• Beijing Machinery Industry Automation Research Institute Co., Ltd.,

• Beijing UniStrong Science & Technology Co., Ltd.,

• Beijing Vision Strategy Technology Co., Ltd.,

• Cambricon (Hong Kong) Co., Ltd.,

• Cambricon (Kunshan) Information Technology Co., Ltd.,

• Cambricon Jixingge (Nanjing) Technology Co., Ltd.,

• Cambricon (Nanjing) Information Technology Co., Ltd.,

• Cambricon Technologies Corporation Limited,

• Cambricon (Xi'an) Integrated Circuit Co., Ltd.,

• CETC Cloud (Beijing) Technology Co., Ltd.,

• CETC LES Information System Group Co., Ltd.,

• China Electronics Technology Group Corporation No. 28 Institute,

• Chinese Academy of Sciences Institute of Computing Technology,

• Guangdong Qinzhi Technology Research Institute Co., Ltd.,

• Hefei Core Storage Electronic Ltd.,

• Key Laboratory of Information Systems Engineering,

• Nanjing Aixi Information Technology Co., Ltd.,

• Nanjing LES Cybersecurity and Information Technology Research Institute Co., Ltd.,

• Nanjing LES Electronic Equipment Co., Ltd.,

• Nanjing LES Information Technology Co., Ltd.,

• PXW Semiconductor Manufactory Co., Ltd.,

• Shanghai Cambricon Information Technology Co., Ltd.,

• Shanghai Integrated Circuit Research and Development Center,

• Shanghai Micro Electronics Equipment (Group) Co., Ltd.,

• Shanghai Suowei Information Technology Co., Ltd.,

• Suzhou Cambricon Information Technology Co., Ltd.,

• System Equipment Co., Ltd. of the 28th Research Institute (Liyang),

• Tianjin Tiandi Weiye Technologies Co., Ltd.,

• Xiong'an Cambricon Technology Co., Ltd.,

• Yangtze Memory Technologies Co., Ltd., and

• Zhongke Xinliang (Beijing) Technology Co., Ltd.

Japan

• Yangtze Memory Technologies (Japan) Inc.

Revisions to the Entity List

This final rule revises three existing entries, under the destination of China.

The ERC determined to modify the entry for China Electronics Technology Group Corporation 13th Research Institute (CETC 13) under the destination of China, first added to the Entity List on August 1, 2018 (83 FR 37427). Prior to this rule, the CETC 13 entry included 12 subordinate institutions (i.e., Bowei Integrated Circuits; Envoltek; Hebei Brightway International; Hebei Medicines Health; Hebei Poshing Electronics; Hebei Puxing Electronic; Hebei Sinopack Electronics; Micro Electronic Technology; MT Microsystems; North China Integrated Circuit Corporation; Shijiazhuang Development Zone Maiteda Microelectronics Technology Development and Application Corporation; and Tonghui Electronics).

With this rule, there are two primary changes to the CETC 13 entry. First, each of the 12 subordinate institutions are now detailed under their own entries and this rule adds those entries as separate entries to the Entity List. Second, the entries for CETC 13 and the subordinate institution Micro Electronic Technology, which as described above is being added under its own entry, are being modified. The ERC determined these two entities are Russian `military end users' pursuant to § 744.21. As Russian `military end users' they are now given a footnote 3 designation in their license requirement. As Russian `military end users' with a footnote 3 designation, CETC 13 and Micro Electronic Technology are now subject to the Russia/Belarus-Military End User foreign “direct product” (FDP) rule, detailed in § 734.9(g). This decision is based on information that these companies contribute to Russia's military and/or defense industrial base. Specifically, the ERC determined that these entities have previously supplied items to Russian parties before February 24, 2022 (Russia's further invasion of Ukraine), and continue to contract to supply items to Russian parties after February 24, 2022. As a conforming change, licenses for CETC 13 and Micro Electronic Technology will be reviewed under a policy of denial for all items subject to the EAR apart from food and medicine designated as EAR99, which will be reviewed on a case-by-case basis. See §§ 746.8(b) and 744.21(e). The remaining 11 subordinate institutions will retain the original entry's license requirement for all items subject to the EAR, which will be reviewed under a presumption of denial.

The ERC has determined to modify the entry for HSJ Electronics, under the destination of China, first added to the Entity List on December 17, 2021 (86 FR 71560), by adding one additional alias and four additional addresses.

The ERC has determined to modify the entry for Tenco Technology Company Limited, under the destination of China, first added to the Entity List on May 14, 2019 (84 FR 21236), by adding one additional alias and one additional address.

Addition to the Entity List and Conforming Removal From the Unverified List

As described above under the additions to the Entity List section, the agencies represented on the ERC determined to add Yangtze Memory Technologies Co., Ltd. under the destination of China to the Entity List for posing a significant risk of becoming involved in activities contrary to the national security or foreign policy interests of the United States. This entity is being added to the Entity List for reasons not related to the prevention of an end-use check. Prior to this rule, Yangtze Memory Technologies Co., Ltd. was listed on the Unverified List in supplement no. 6 to part 744 of the EAR. For consistency with the existing BIS policy of not listing an entity on more than one of these lists at the same time, this rule makes the conforming change to remove the entity from the UVL.

Export Control Reform Act of 2018

On August 13, 2018, the President signed into law the John S. McCain National Defense Authorization Act for Fiscal Year 2019, which included the Export Control Reform Act of 2018 (ECRA), 50 U.S.C. Sections 4801-4852. ECRA provides the legal basis for BIS's principal authorities and serves as the authority under which BIS issues this final rule.

Savings Clause

For the changes being made in this final rule, shipments of items removed from eligibility for a License Exception or export, reexport, or transfer (in-country) without a license (NLR) as a result of this regulatory action that were en route aboard a carrier to a port of export, reexport, or transfer (in-country), on December 16, 2022, pursuant to actual orders for export, reexport, or transfer (in-country) to or within a foreign destination, may proceed to that destination under the previous eligibility for a License Exception or export, reexport, or transfer (in-country) without a license (NLR).

Rulemaking Requirements

1. This rule has been determined to be not significant for purposes of Executive Order 12866.

2. Notwithstanding any other provision of law, no person is required to respond to or be subject to a penalty for failure to comply with a collection of information, subject to the requirements of the Paperwork Reduction Act of 1995 (44 U.S.C. 3501 et seq.) (PRA), unless that collection of information displays a currently valid Office of Management and Budget (OMB) Control Number. This regulation involves collections previously approved by OMB under control number 0694-0088, Simplified Network Application Processing System, which includes, among other things, license applications and commodity classifications, and carries a burden estimate of 29.4 minutes for a manual or electronic submission for a total burden estimate of 33,133 hours. Total burden hours associated with the PRA and OMB control number 0694-0088 are not expected to increase as a result of this rule.

3. This rule does not contain policies with federalism implications as that term is defined in Executive Order 13132.

4. Pursuant to section 1762 of the Export Control Reform Act of 2018, this action is exempt from the Administrative Procedure Act (5 U.S.C. 553) requirements for notice of proposed rulemaking, opportunity for public participation, and delay in effective date.

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required and none has been prepared.

List of Subjects in 15 CFR Part 744

Exports, Reporting and recordkeeping requirements, Terrorism.

Accordingly, part 744 of the Export Administration Regulations (15 CFR parts 730 through 774) is amended as follows:

PART 744—CONTROL POLICY: END-USER AND END-USE BASED

1. The authority citation for 15 CFR part 744 continues to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 19, 2022, 87 FR 57569 (September 21, 2022); Notice of November 8, 2022, 87 FR 68015 (November 10, 2022).

2. Amend supplement no. 4 to part 744 by:

a. Under PEOPLE'S REPUBLIC OF CHINA:

i. Adding in alphabetical order entries for “Anhui Cambricon Information Technology Co., Ltd.,” “AVIC Research Institute for Special Structures of Aeronautical Composites,” “AZUP International Group Co., Ltd.,” “Beijing HiFar Technology Co., Ltd.,” “Beijing Machinery Industry Automation Research Institute Co., Ltd.,” “Beijing UniStrong Science & Technology Co., Ltd.,” “Beijing Vision Strategy Technology Co., Ltd.,” “Cambricon (Hong Kong) Co., Ltd.,” “Cambricon Jixingge (Nanjing) Technology Co., Ltd.,” “Cambricon (Kunshan) Information Technology Co., Ltd.,” “Cambricon (Nanjing) Information Technology Co., Ltd.,” “Cambricon Technologies Corporation Limited,” “Cambricon (Xi'an) Integrated Circuit Co., Ltd.,” “CETC Cloud (Beijing) Technology Co., Ltd.,” and “CETC LES Information System Group Co., Ltd.”;

ii. Revising the entry for “China Electronics Technology Group Corporation 13th Research Institute (CETC 13)”;

iii. Adding in alphabetical order entries for “China Electronics Technology Group Corporation 13th Research Institute (CETC 13) subordinate institution: Bowei Integrated Circuits,” “China Electronics Technology Group Corporation 13th Research Institute (CETC 13) subordinate institution: Envoltek,” “China Electronics Technology Group Corporation 13th Research Institute (CETC 13) subordinate institution: Hebei Brightway International,” “China Electronics Technology Group Corporation 13th Research Institute (CETC 13) subordinate institution: Hebei Medicines Health,” “China Electronics Technology Group Corporation 13th Research Institute (CETC 13) subordinate institution: Hebei Poshing Electronics,” “China Electronics Technology Group Corporation 13th Research Institute (CETC 13) subordinate institution: Hebei Puxing Electronic,” “China Electronics Technology Group Corporation 13th Research Institute (CETC 13) subordinate institution: Hebei Sinopack Electronics,” “China Electronics Technology Group Corporation 13th Research Institute (CETC 13) subordinate institution: Micro Electronic Technology,” “China Electronics Technology Group Corporation 13th Research Institute (CETC 13) subordinate institution: MT Microsystems,” “China Electronics Technology Group Corporation 13th Research Institute (CETC 13) subordinate institution: North China Integrated Circuit Corporation,” “China Electronics Technology Group Corporation 13th Research Institute (CETC 13) subordinate institution: Shijiazhuang Development Zone Maiteda Microelectronics Technology Development and Application Corporation,” “China Electronics Technology Group Corporation 13th Research Institute (CETC 13) subordinate institution: Tonghui Electronics,” “China Electronics Technology Group Corporation No. 28 Institute,” “Chinese Academy of Sciences Institute of Computing Technology,” “Guangdong Qinzhi Technology Research Institute Co., Ltd.,” and “Hefei Core Storage Electronic Ltd.”;

iv. Revising the entry for “HSJ Electronics”;

v. Adding in alphabetical order entries for “Key Laboratory of Information Systems Engineering,” “Nanjing Aixi Information Technology Co., Ltd.,” “Nanjing LES Cybersecurity and Information Technology Research Institute Co., Ltd.,” “Nanjing LES Electronic Equipment Co., Ltd.,” “Nanjing LES Information Technology Co., Ltd.,” “PXW Semiconductor Manufactory Co., Ltd.,” “Shanghai Cambricon Information Technology Co., Ltd.,” “Shanghai Integrated Circuit Research and Development Center,” “Shanghai Micro Electronics Equipment (Group) Co., Ltd.,” “Shanghai Suowei Information Technology Co., Ltd.,” “Suzhou Cambricon Information Technology Co., Ltd.,” and “System Equipment Co., Ltd. of the 28th Research Institute (Liyang)”;

vi. Revising the entry for “Tenco Technology Company Ltd.”; and

vii. Adding in alphabetical order entries for “Tianjin Tiandi Weiye Technologies Co., Ltd.,” “Xiong'an Cambricon Technology Co., Ltd.,” “Yangtze Memory Technologies Co., Ltd.,” and “Zhongke Xinliang (Beijing) Technology Co., Ltd.”; and

b. Under JAPAN, adding in alphabetical order an entry for “Yangtze Memory Technologies (Japan) Inc.”.

The additions and revisions read as follows:

Supplement No. 4 to Part 744—Entity List

* * * * *

Country | Entity | License requirement | License review policy | Federal Register citation
* * * * * * *
CHINA, PEOPLE'S REPUBLIC OF | * * * * * *
| Anhui Cambricon Information Technology Co., Ltd., a.k.a., the following three aliases: —Anhui Cambrian; —Anhui Cambrian Information Technology; and —Anhui Cambricon. No. 3333 Xiyou Road, High-tech Zone, Hefei City, Anhui Province, China Room 611-194, R&D Center Building, International Intelligent Voice Industrial Park. | For all items subject to the EAR. (See §§ 734.9(e)(2) and 744.11 of the EAR) ⁴ | Presumption of denial | 87 FR [INSERT FR PAGE NUMBER], 12/19/2022.
| * * * * * *
| AVIC Research Institute for Special Structures of Aeronautical Composites, a.k.a., the following two aliases: —AVIC RISAC; and —AVIC 637th Research Institute. No. 19, Jiqi Road, Jinan, Shandong, China. | For all items subject to the EAR. (See § 744.11 of the EAR) | Presumption of denial | 87 FR [INSERT FR PAGE NUMBER], 12/19/2022.
| * * * * * *
| AZUP International Group Co., Ltd., a.k.a., the following one alias: —Beijing AZUP Scientific Co., Ltd. Rm7-1-1, Langchao Xinxi Building, No. 2 Xinxi Road, Haidian District, Beijing, China; and 7th Floor, Building C, East District, International Pioneer Park, No. 2 Shangdi Information Road, Haidian District, Beijing, China; and B1-1422, Huitong Plaza, No. 31 Yuangang Heng Road, Tianhe District, Guangzhou, China; and Room 1602, Building 10, Phase 6, Forte East Lake International, Wuchang District, Wuhan City, China; and Room 1106, Block C, International Apartment, No. 37 Tangyan Road, High-tech Zone, Xi'an City, China; and 300#, Building 1, Shanghai Huigu, No. 641, Tianshan Road, Shanghai, China. | For all items subject to the EAR. (See § 744.11 of the EAR) | Presumption of denial | 87 FR [INSERT FR PAGE NUMBER], 12/19/2022.
| * * * * * *
| Beijing HiFar Technology Co., Ltd., a.k.a., the following one alias: —Beijing Huatian Haifeng Technology Co., Ltd. 10F, Unit 3 (Block C), 9th Floor, Building 2, Jinyuan Times Business Center, Landianchang East Road, Haidian District, Beijing, China; and Unit C&D 3F Howming, Factory Building, Kowloon, Hong Kong. | For all items subject to the EAR. (See § 744.11 of the EAR) | Presumption of denial | 87 FR [INSERT FR PAGE NUMBER], 12/19/2022.
| * * * * * *
| Beijing Machinery Industry Automation Research Institute Co., Ltd., a.k.a., the following three aliases: —Beijing Research Institute of Automation for Machinery Industry; —RAIMB; and —Beizi Institute. No. 113, Xinlong Road, Zhonglou District, Changzhou City, China; and Building 1,6, or 8, No. 1 Jiaochangkou Street, Xicheng District, Beijing, China; and Room 208, 2nd Floor, Building 13, Yard 53, Yangqi Street, Yangqi Economic Development Zone, Huairou District, Beijing, China. | For all items subject to the EAR. (See § 744.11 of the EAR) | Presumption of denial | 87 FR [INSERT FR PAGE NUMBER], 12/19/2022.
| * * * * * *
| Beijing UniStrong Science & Technology Co., Ltd., Courtyard 8, Kechuang 12th Street, Daxing District Beijing, Beijing, 100176 China. | For all items subject to the EAR. (See § 744.11 of the EAR) | Presumption of denial | 87 FR [INSERT FR PAGE NUMBER], 12/19/2022.
| * * * * * *
| Beijing Vision Strategy Technology Co., Ltd., a.k.a., the following one alias: —BVST. Room 509-1, 5th Floor, Building 23, Shangdi Jiayuan, Haidian District, Beijing, China; and Room 312, 3rd Floor, Lianchuang Building, No. 2 Dongbeiwang Road, Haidian District, Beijing, China. | For all items subject to the EAR. (See § 744.11 of the EAR) | Presumption of denial | 87 FR [INSERT FR PAGE NUMBER], 12/19/2022.
| * * * * * *
| Cambricon (Hong Kong) Co., Ltd., a.k.a., the following five aliases: —Cambrian Hong Kong; —Cambrian (Hong Kong) Co., Ltd.; —Cambricon Hong Kong; —Hong Kong Cambrian; and —Hong Kong Cambricon. RM19C Lockhart CTR 301-307, Lockhart Rd. Wan Chai, Hong Kong. | For all items subject to the EAR. (See §§ 734.9(e)(2) and 744.11 of the EAR) ⁴ | Presumption of denial | 87 FR [INSERT FR PAGE NUMBER], 12/19/2022.
| Cambricon Jixingge (Nanjing) Technology Co., Ltd., a.k.a., the following three aliases: —Cambrian Jixingge (Nanjing) Technology Co., Ltd.; —Cambricon Xingge; and —Cambrian Xingge. 100 Tianjiao Road, Qilin Science and Technology Innovation Park, Nanjing, Room 201, 11th Floor, Building A, Qiaomengyuan, Nanjing, Jiangsu, China | For all items subject to the EAR. (See §§ 734.9(e)(2) and 744.11 of the EAR) ⁴ | Presumption of denial | 87 FR [INSERT FR PAGE NUMBER], 12/19/2022.
| Cambricon (Kunshan) Information Technology Co., Ltd., a.k.a., the following seven aliases: —Cambrian (Kunshan) Information Technology Co., Ltd.; —Cambricon Kunshan IT; —Cambrian Kunshan IT; —Cambricon Kunshan; —Cambrian Kunshan; —Kunshan Cambricon; and —Kunshan Cambrian. Room 5, No. 232 Yuanfeng Road, Yushan Town, Kunshan City, China. | For all items subject to the EAR. (See §§ 734.9(e)(2) and 744.11 of the EAR) ⁴ | Presumption of denial | 87 FR [INSERT FR PAGE NUMBER], 12/19/2022.
| Cambricon (Nanjing) Information Technology Co., Ltd., a.k.a., the following five aliases: —Cambrian Nanjing Information Technology Co., Ltd.; —Cambricon Nanjing IT; —Cambrian Nanjing IT; —Nanjing Cambricon; and —Nanjing Cambrian. Room 201, 11th Floor, Building A, Qiaomengyuan, Nanjing, Jiangsu, China, and No. 100 Tianjiao Road, Qilin Science and Technology Innovation Park, Nanjing, China. | For all items subject to the EAR. (See §§ 734.9(e)(2) and 744.11 of the EAR) ⁴ | Presumption of denial | 87 FR [INSERT FR PAGE NUMBER], 12/19/2022.
| Cambricon Technologies Corporation Limited, a.k.a., the following four aliases: —Cambrian; —Cambrian Technologies Corporation; —Cambricon; and —Zhongke Cambricon Technology. Room 1601, 16th Floor, Block D, Zhizhen Building, No. 7 Zhichun Road, Haidian District, Beijing, China; and Floor 11, 13, 14, 15, 16 Block D, No. 7 Zhichun Road, Haidian District, Beijing, China; and Building 1, Lane 2290, Zuchong Road, Pudong New Area, Shanghai, China; and 1101, 03-09, 1801, 04-06, 2104-06 Building 2 9th Floor, Tower T1, No. 1555, Haigang Avenue, Pudong New Area Shanghai, China; and 888 West Huanhui Road No. 2, Nanhui New Town, Shanghai, China; and 3404-05, 3406-10 3506-10 Block A, Tianxia Jinniu Plaza, No. 8 Taoyuan Road, Nantou Street, Nanshan District, Shenzhen, China; and 3506- 10, 35 F Building A Tianxiajin, Shenzhen, China; and 22nd Floor, Building A1, China Sound Valley, No. 3333, Xiyou Road, High-tech Zone, Hefei City, China; and 26th Floor, No. 3 Office Building, Fengyue Yunchuang Center, Junction of Haojing Avenue and Hanchi 1st Road, Fengdong New City, Xi'an, China; and 606, 607, 610, 611, Building A5, No. 266, Changyan Road, Jiangning District, Nanjing, China. | For all items subject to the EAR. (See §§ 734.9(e)(2) and 744.11 of the EAR) ⁴ | Presumption of denial | 87 FR [INSERT FR PAGE NUMBER], 12/19/2022.
| Cambricon (Xi'an) Integrated Circuit Co., Ltd., a.k.a., the following five aliases: —Cambrian (Xi'an) Integrated Circuit; —Cambricon (Xi'an) IC; —Cambrian (Xi'an) IC; —Xi'an Cambricon; and —Xi'an Cambrian. Xi'an, Fengdong New Town, Xi'an City, Shaanxi Province, 24th Floor, and No. 3 Runjingyiyuan at the Junction of Haojing Avenue and Hanchi 1st Road, Fengdong New City, China. | For all items subject to the EAR. (See §§ 734.9(e)(2) and 744.11 of the EAR) ⁴ | Presumption of denial | 87 FR [INSERT FR PAGE NUMBER], 12/19/2022.
| * * * * * *
| CETC Cloud (Beijing) Technology Co., Ltd., a.k.a., the following five aliases: —CETC Cloud Technology Co., Ltd.; —Dianke Cloud (Beijing) Technology Co., Ltd.; —Dianke Cloud Technology Co., Ltd.; —China Electronic Technology Cloud Corporation; and —CEC Cloud. 4th Floor, Building 3, Yard 30, Jinfu Road, Shijingshan District, Beijing, China; and Building 3, No. 30 Yard, China Electronic Science and Technology Park, Shijingshan District, Beijing, China; and Room 1401, 14th Floor, Building 4, Yard 54, Shijingshan Road, Shijingshan District, Beijing, China; and Building A6, Land Geographic Information Industrial Park, Qixia District, Nanjing, China; and No. 11, Shuangyuan Road, Hi-Tech Park, Shijingshan District, Beijing, China; and 1 Hongtai Yujing Garden on the West Side of Jianshe Street and the North Side of Renhe Street,Luannan County, Hebei Province, Tangshan City, China; and 3103, Building 3, Zizhu, Shangri-La Garden, Fanglinquan Road, Yaohai District, Anhui Province, Hefei City, China; and Room 1016, No. 289, Chengxin Dajiao Road, Xihanggang Street, Shuangliu District, Sichuan Province, Chengdu City, China; and 7th Floor, Unit 1, Innovation Times Plaza, No. 555, North Section of Yizhou Avenue, High-tech Zone, Chengdu, China; and Area A, Jiangsu Geographic Information Industry Park, No. 18 Lingshan North Road, Xianlin Street, Qixia District, Nanjing City, China; and Building 6, Area A, Jiangsu Geographic Information Industry Park, No. 18 Lingshan North Road, Xianlin Street, Qixia District, Nanjing City, China; and Building 3, No. 211 Beiyan Road, Chongming District, Shanghai (Shanghai Chongming Forest Tourism Park), China. | For all items subject to the EAR. (See §§ 734.9(e)(2) and 744.11 of the EAR) ⁴ | Presumption of denial | 87 FR [INSERT FR PAGE NUMBER], 12/19/2022.
| CETC LES Information System Group Co., Ltd., a.k.a., the following six aliases: —CLP LES Information System Group Co., Ltd.; —CLP Rice Information System Group Co., Ltd.; —CLP Rice Information System Co., Ltd.; —Electric LES; —CETC LES; and —Electric Coles. No. 1 Alfalfa Garden East Street, Qinhuai District, Nanjing, China; and No. 909, South District, No. 28, Qinhuai District, Nanjing, China. | For all items subject to the EAR. (See §§ 734.9(e)(2) and 744.11 of the EAR) ⁴ | Presumption of denial | 87 FR [INSERT FR PAGE NUMBER], 12/19/2022.
| * * * * * *
| China Electronics Technology Group Corporation 13th Research Institute (CETC 13), a.k.a., the following six aliases: —Hebei Semiconductor Research Institute; —HSRI; —Hebei Institute of Semiconductors; —Hebei Semiconductor Institute; —Hebei Semiconductor; and —CETC Research Institute 13. 113 Hezuo Road, Shijiazhuang, Hebei, China; and 21 Changsheng Street, Shijiazhuang, Hebei, China; and 21 Changsheng Road, Shijiazhuang, Hebei, China. | For all items subject to the EAR. (See §§ 734.9(g),³ 746.8(a)(3), and 744.21(b) of the EAR) | Policy of denial for all items subject to the EAR apart from food and medicine designated as EAR99, which will be reviewed on a case-by-case basis. See §§ 746.8(b) and 744.21(e). | 83 FR 37427, 8/1/18. 87 FR [INSERT FR PAGE NUMBER], 12/19/2022.
| China Electronics Technology Group Corporation 13th Research Institute (CETC 13) subordinate institution: Bowei Integrated Circuits, a.k.a., the following three aliases: —Hebei Bowei Integrated; —Hebei Bowel Technology; and —Shijuang Bowei. 113 Hezuo Road, Shijiazhuang, Hebei, China; and 21 Changsheng Street, Shijiazhuang, Hebei, China; and 21 Changsheng Road, Shijiazhuang, Hebei, China; and Shijiazhuang New and Hi-Tech Dev Zone, Hebei, China. | For all items subject to the EAR. (See § 744.11 of the EAR) | Presumption of denial | 83 FR 37427, 8/1/18. 87 FR [INSERT FR PAGE NUMBER], 12/19/2022.
| China Electronics Technology Group Corporation 13th Research Institute (CETC 13) subordinate institution: Envoltek, a.k.a., the following one alias: —Hebei Envoltek Electronics. 21 Changsheng Street, Shijiazhuang, Hebei, China; and 21 Changsheng Road, Shijiazhuang, Hebei, China. | For all items subject to the EAR. (See § 744.11 of the EAR) | Presumption of denial | 83 FR 37427, 8/1/18. 87 FR [INSERT FR PAGE NUMBER], 12/19/2022.
| China Electronics Technology Group Corporation 13th Research Institute (CETC 13) subordinate institution: —Hebei Brightway International, 21 Changsheng Street, Shijiazhuang, Hebei, China; and 21 Changsheng Road, Shijiazhuang, Hebei, China. | For all items subject to the EAR. (See § 744.11 of the EAR) | Presumption of denial | 83 FR 37427, 8/1/18. 87 FR [INSERT FR PAGE NUMBER], 12/19/2022.
| China Electronics Technology Group Corporation 13th Research Institute (CETC 13) subordinate institution: Hebei Medicines Health, 113 Hezuo Road, Shijiazhuang, Hebei, China. | For all items subject to the EAR. (See § 744.11 of the EAR) | Presumption of denial | 83 FR 37427, 8/1/18. 87 FR [INSERT FR PAGE NUMBER], 12/19/2022.
| China Electronics Technology Group Corporation 13th Research Institute (CETC 13) subordinate institution: Hebei Poshing Electronics, a.k.a., the following three aliases: —Hebei Poshing Electronics —Hebei Poshing Elec.; and —Hubei Poshing Electronics. 113 Hezuo Road, Shijiazhuang, Hebei, China; and 21 Changsheng Street, Shijiazhuang, Hebei, China; and 21 Changsheng Road, Shijiazhuang, Hebei, China. | For all items subject to the EAR. (See § 744.11 of the EAR) | Presumption of denial | 83 FR 37427, 8/1/18. 87 FR [INSERT FR PAGE NUMBER], 12/19/2022.
| China Electronics Technology Group Corporation 13th Research Institute (CETC 13) subordinate institution: Hebei Puxing Electronic, 113 Hezuo Road, Shijiazhuang, Hebei, China; and 21 Changsheng Street, Shijiazhuang, Hebei, China; and 21 Changsheng Road, Shijiazhuang, Hebei, China. | For all items subject to the EAR. (See § 744.11 of the EAR) | Presumption of denial | 83 FR 37427, 8/1/18. 87 FR [INSERT FR PAGE NUMBER], 12/19/2022.
| China Electronics Technology Group Corporation 13th Research Institute (CETC 13) subordinate institution: Hebei Sinopack Electronics, a.k.a., the following one alias: —Hebei Sinapack Elec. 113 Hezuo Road, Shijiazhuang, Hebei, China; and 21 Changsheng Street, Shijiazhuang, Hebei, China; and 21 Changsheng Road, Shijiazhuang, Hebei, China. | For all items subject to the EAR. (See § 744.11 of the EAR) | Presumption of denial | 83 FR 37427, 8/1/18. 87 FR [INSERT FR PAGE NUMBER], 12/19/2022.
| China Electronics Technology Group Corporation 13th Research Institute (CETC 13) subordinate institution: Micro Electronic Technology, a.k.a., the following three aliases: —Micro Electronic Technology Development Application Corp; —METDA; and —METDAC. 113 Hezuo Road, Shijiazhuang, Hebei, China. | For all items subject to the EAR. (See §§ 734.9(g),³ 746.8(a)(3), and 744.21(b) of the EAR) | Policy of denial for all items subject to the EAR apart from food and medicine designated as EAR99, which will be reviewed on a case-by-case basis. See §§ 746.8(b) and 744.21(e). | 83 FR 37427, 8/1/18. 87 FR [INSERT FR PAGE NUMBER], 12/19/2022.
| China Electronics Technology Group Corporation 13th Research Institute (CETC 13) subordinate institution: MT Microsystems, 113 Hezuo Road, Shijiazhuang, Hebei, China. | For all items subject to the EAR. (See § 744.11 of the EAR) | Presumption of denial | 83 FR 37427, 8/1/18. 87 FR [INSERT FR PAGE NUMBER], 12/19/2022.
| China Electronics Technology Group Corporation 13th Research Institute (CETC 13) subordinate institution: North China Integrated Circuit Corporation, 21 Changsheng Street, Shijiazhuang, Hebei, China; and 21 Changsheng Road, Shijiazhuang, Hebei, China; and 113 Hezuo Road, Shijiazhuang, Hebei, China. | For all items subject to the EAR. (See § 744.11 of the EAR) | Presumption of denial | 83 FR 37427, 8/1/18. 87 FR [INSERT FR PAGE NUMBER], 12/19/2022.
| China Electronics Technology Group Corporation 13th Research Institute (CETC 13) subordinate institution: Shijiazhuang Development Zone Maiteda Microelectronics Technology Development and Application Corporation, 21 Changsheng Street, Shijiazhuang, Hebei, China; and 21 Changsheng Road, Shijiazhuang, Hebei, China. | For all items subject to the EAR. (See § 744.11 of the EAR) | Presumption of denial | 83 FR 37427, 8/1/18. 87 FR [INSERT FR PAGE NUMBER], 12/19/2022.
| China Electronics Technology Group Corporation 13th Research Institute (CETC 13) subordinate institution: Tonghui Electronics, a.k.a., the following one alias: —Tonghui Electronics Technology. 21 Changsheng Street, Shijiazhuang, Hebei, China; and 21 Changsheng Road, Shijiazhuang, Hebei, China. | For all items subject to the EAR. (See § 744.11 of the EAR) | Presumption of denial | 83 FR 37427, 8/1/18. 87 FR [INSERT FR PAGE NUMBER], 12/19/2022.
| * * * * * *
| China Electronics Technology Group Corporation No. 28 Institute, a.k.a., the following eight aliases: —The 28th Research Institute of China Electronics Technology Group Corporation; —28th Research Institute of China Electronics Technology Group Corporation; —CETC 28; —CETC28; —The 28th Institute; —Nanjing Institute of Electronic Engineering; —NRIEE; and —NIEE. Houbiaoying Rd., Bai Xia Qu, Nanjing, Jiangsu, China, 210095; and No. 99, Houbiaoying Road, Qinhuai District, Jiangsu Province, Nanjing City, China; and 1-2 Alfalfa Garden East Street, Jiangsu Province, Nanjing City, China and No. 1 Yongzhi Road, Qinhuai District, Nanjing, China. | For all items subject to the EAR. (See §§ 734.9(e)(2) and 744.11 of the EAR) ⁴ | Presumption of denial | 87 FR [INSERT FR PAGE NUMBER], 12/19/2022.
| * * * * * *
| Chinese Academy of Sciences Institute of Computing Technology, a.k.a., the following four aliases: —Institute of Computing Technology Chinese Academy of Sciences; —Institute of Computing Technology; —CAS ICT; and —ICT CAS. No. 6, South Academy of Sciences Road, Zhongguancun, Haidian District, Beijing, China and No. 6 Kexueyuan South Road, Zhongguaneun, Haidian District, Beijing, China and No. 6 Kexueyuan South Road, Zhonggu, Haidian District, Beijing, China. | For all items subject to the EAR. (See §§ 734.9(e)(2) and 744.11 of the EAR) ⁴ | Presumption of denial | 87 FR [INSERT FR PAGE NUMBER], 12/19/2022.
| * * * * * *
| Guangdong Qinzhi Technology Research Institute Co., Ltd., a.k.a., the following four aliases: —Qinzhi Technology; —Qinzhi Tech; —Qinzhi Institute; and —GD Qinzhi. 2nd Floor, Block C, Building 20, Hengqin Creative Valley, Hangqin New District, Guangdong Province Zhuhai City, China. | For all items subject to the EAR. (See §§ 734.9(e)(2) and 744.11 of the EAR) ⁴ | Presumption of denial | 87 FR [INSERT FR PAGE NUMBER], 12/19/2022.
| * * * * * *
| Hefei Core Storage Electronic Ltd., a.k.a., the following three aliases: —HF CoreStorage; —CoreStorage; and —Hefei Zhaoxin. 13th Floor, Building F3, Phase II, Innovation Industrial Park, High-tech Zone, Anhui Province, Hefei City, China; and 6th Floor and 12th-13th Floor, Building F3, Phase II, Innovation Industrial Park, No. 2800, Chuangxin Avenue, High-tech Zone, Hefei, China. | For all items subject to the EAR. (See § 744.11 of the EAR) | Presumption of denial | 87 FR [INSERT FR PAGE NUMBER], 12/19/2022.
| * * * * * *
| HSJ Electronics, a.k.a., the following two aliases: —HSJ Electronic Hong Kong Limited; and —Shenzhen HSJ Electronics Co. Ltd. Room 803, Chevalier House 45-51, Chatham Road South, Tsim Sha Tsui, Hong Kong; and 10/F Kras Asia Industrial Building 79 Hung to Road, Kowloon, Hong Kong; and 19/F Pat Tat Industrial Building, 1 Pat Tat Street, San Po Kong, Kowloon, Hong Kong; and Room 6905, SEG Plaza, Futian, Shenzhen, China; and Room 831, Nanguang Building, Shennan Middle Road, Futian, Shenzhen, China; and 3f, N, 2 East Technology Park Tongsheng Industrial Park Dalang Town Baoan District, Shenzhen, Guangdong, China. | For all items subject to the EAR. (See § 744.11 of the EAR) | Presumption of denial | 86 FR 71559, 12/17/21. 87 FR [INSERT FR PAGE NUMBER], 12/19/2022.
| * * * * * *
| Key Laboratory of Information Systems Engineering, a.k.a., the following two aliases: —KLISE; and —Key Laboratory of Information Systems Engineering. Science and Technology Building of the National University of Defense Technology. | For all items subject to the EAR. (See §§ 734.9(e)(2) and 744.11 of the EAR) ⁴ | Presumption of denial | 87 FR [INSERT FR PAGE NUMBER], 12/19/2022.
| * * * * * *
| Nanjing Aixi Information Technology Co., Ltd., a.k.a., the following alias: —Nanjing Aixi IT. No. 18, Xianlin Avenue, Maqun Street, Qixia District, Nanjing, China. | For all items subject to the EAR. (See §§ 734.9(e)(2) and 744.11 of the EAR) ⁴ | Presumption of denial | 87 FR [INSERT FR PAGE NUMBER], 12/19/2022.
| * * * * * *
| Nanjing LES Cybersecurity and Information Technology Research Institute Co., Ltd., a.k.a., the following six aliases: —Nanjing Laisi Netcom Technology Research Institute Co., Ltd.; —Nanjing Laisi Network Information Technology Research Institute Co., Ltd.; —Nanjing LES Network Information Technology Research Institute Co., Ltd.; —Nanjing LES Netcom Technology Research Institute Co., Ltd.; —Laisi Netcom; and —LES Netcom. Building 05, Tianan Digital City, No. 36 Yongfeng Avenue, Qinhuai District, Nanjing, China. | For all items subject to the EAR. (See §§ 734.9(e)(2) and 744.11 of the EAR) ⁴ | Presumption of denial | 87 FR [INSERT FR PAGE NUMBER], 12/19/2022.
| Nanjing LES Electronic Equipment Co., Ltd., a.k.a., the following five aliases: —Nanjing Rice Electronic Equipment Co., Ltd.; —LES Electronics; —Rice Electronics; —LES Electronic; and —Rice Electronic. No. 1 Alfalfa Garden East Street, Qinhuai District, Nanjing, China; and Jiangsu Province, Building 05, Tianan Cyber City, No. 36 Yongfeng Avenue, Qinhuai District, Nanjing, China; and No. 99, Houbiaoying Road, Qinhuai District, Jiangsu Province Nanjing City, China; and No. 8 Yongzhi Road, Qinhuai District, Nanjing, China. | For all items subject to the EAR. (See §§ 734.9(e)(2) and 744.11 of the EAR) ⁴ | Presumption of denial | 87 FR [INSERT FR PAGE NUMBER], 12/19/2022.
| Nanjing LES Information Technology Co., Ltd., a.k.a. the following alias: —Nanjing Rice Information Technology Co., Ltd. No. 8 Yongzhi Road, Qinhuai District, Nanjing, China; and Room 1609 Building 101 No. 8 Yongzhi Road, Nanjing, China; and No. 1 Muxu Yuan Str Zhongshanmenwai, Nanjing, China; and E01-369, No. 861-1, Shangshengou Village, Hunnan District, Shenyang City, Liaoning Province, China; and No. 861-1 Shangshengou Village, Hunnan District, Shenyang City, Liaoning Province, E01-369, China; and No. 3, Daxing Community, No. 533, Lihan West Avenue, Xitianwei Town, Licheng District, Putian City, Fujian Province, China; and Room 10617, Tianlang Weilan Internationa. No. 3, Daqing Road, Lianhu District, Xi'an City Shaanxi Province, China; and Room 602, 6th Floor, Building 3, No. 3 Yongfu Road, Yuexiu District, Guangzhou City, China; and No. 533 Lihan West Avenue, Xitianwei Town, Licheng District, Putian City, Fujian Province, China; and Room 272, Unit 2, Building 1, No. 76-2, Xiaoqiao Street, Chengbei District, Xining City, China; and Room 702-21, Fujian Building, Huaxing Road, Hedong District, Tianjin, China; and No. 2020, 20th Floor, Unit 2, Building 20, No. 466, Wandong Road, Wan'an Town, Tianfu New District, Chengdu, Sichuan Province, China; and 3017B, 3rd Floor, Building 11, No. 66, Tiantan East Road, Dongcheng District, Beijing, China; and No. 26, 1st Floor, Commercial Plot, Longxiangyuan Building, Didang Street, Yuecheng District, Shaoxing City, Zhejiang Province, China; and Room A123, Unit C1-2, No. 859, Panxu Road, Gusu District, Suzhou City, China; and No. 1, 7th Floor, Building 3, No. 3, Xingguang 5th Road, Liangjiang New District, Chongqing, China; and Room 601, Unit 1, Building 2, Yashiyuan, Guorui City, No. 7 Daying East Road, Meilan District, Haikou City, Hainan Province, China; and No. 1403B, 14th Floor, Block A (Unit 1), Building 1, Oriental Pearl Garden, no. 40-1, Shuangyong Road, Qingxiu District, Nanning City, China; and Room 510, 5th Floor, Building A, Building 3, Muhua Plaza, Dongzheng Shang Huhua Plaza, Mingli Road, West Lake Xindao Road, Longzihu Wisdom Island, Zhengdong New District, Zhengzhou City, China; and 6F-B606, Qingchuang Space Building, Huai'an Ecological Cultural Tourism Zone, China; and Room 426, 4th Floor, Management Committee of Industrial and Trade Park, Baoshan City, Yunnan Province, China; and No. 17, 5th Floor, No. 2, Heping Road, Xiangfang District, Harbin, China; and No. 6, 1st Floor, Building 1, Xiangzhangyuan, Wisdom Longcheng, Songshan Road, Yunyan District, Guiyang City, Guizhou Province, China; and Room 1-102-658, Maker Space Room, No. 3, Pudong Street, Shanghai Road, Economic and Technological Development Zone, Urumqi, Xinjiang, China; and Room 303-31, No. 88, Shangpo Street, Shangpo Village, Chengguan Town, Rongcheng County, Baoding City, Hebei Province, China; and 2322-2323, Block A, Building 3, Guogou Plaza (Commercial), Xiangshan District, Huaibei City, Anhui Province, China; and Room 901, 9th Floor, Building 1, Qilin Science and Technology Park, No. 20, Qiyun Road, Changsha High-tech Development Zone, China; and Room 402, No. 669, Fong Road, Huangdao District, Qingdao City, Shangdong Province, China. | For all items subject to the EAR. (See §§ 734.9(e)(2) and 744.11 of the EAR) ⁴ | Presumption of denial | 87 FR [INSERT FR PAGE NUMBER], 12/19/2022.
| * * * * * *
| PXW Semiconductor Manufactory Co., Ltd., a.k.a., the following seven aliases: —Peng Chip; —Shenzhen Peng Xin Wei IC Manufacturing; —Shenzhen Pengxin Micro Integrated Circuit Manufacturing Co., Ltd.; —PengXinWei; —PXW; —PXWSemi; and —Pengxin Micro. Room 727, Shanxia Building, No. 160, Xinxia Avenue, Shanxia Community, Pinghu Street, Longgang District, Shenzhen, 518111, China; and Building D, Zhongke Valley Industrial Park, Zhonghuan Avenue, Shanxia Community, Pinghu Street, Longgang District, Shenzhen, China. | For all items subject to the EAR. (See § 744.11 of the EAR) | Presumption of denial | 87 FR [INSERT FR PAGE NUMBER], 12/19/2022.
| * * * * * *
| Shanghai Cambricon Information Technology Co., Ltd., a.k.a. the following eight aliases: —Shanghai Cambrian Information Technology; —Shanghai Cambricon IT; —Shanghai Cambrian IT; —Shanghai Cambricon Info Tech; —Shanghai Cambrian Info Tech; —Shanghai Cambricon Information; —Shanghai Cambricon; and —Shanghai Cambrian. No. 888, Huanhu West 2nd Road, Lingang New Area, China (Shanghai) Pilot Free Trade Zone and 888 West Huanhu Road No. 2, Shanghai, China and No. 888 West 2nd Huanhu Road, Shanghai. China and 888 West Huanhu Road No. 2 Nanhui New Town, Pudong New Area, Shanghai, China and Rm 1805, Zhanxiang Plaza Bldg 1 2290 Zuchonggzhi Road, Shanghai, China and Room 1201, 12th Floor, Block D, Beijing, China and No. 176 5, 6 Ling Huallung Chun, Chiung Lin Hsin Chiu Hsien, China and No. 7 Zhichun Road, Haidian Beijing and 11th Layer, Building D, Zhizhen Building No. 7 Zhuchun Beijing, China. | For all items subject to the EAR. (See §§ 734.9(e)(2) and 744.11 of the EAR) ⁴ | Presumption of denial | 87 FR [INSERT FR PAGE NUMBER], 12/19/2022.
| * * * * * *
| Shanghai Integrated Circuit Research and Development Center, a.k.a., the following two aliases: —Shanghai IC R&D Center; and —ICRD. No. 497, Goasi Road, Zhangjiang Hi-Tech Park, Pudong New Area, Shanghai, China; and No. 3000, Longdong Avenue, Pilot Free Trade Zone, Shanghai, China. | For all items subject to the EAR. (See § 744.11 of the EAR) | Presumption of denial | 87 FR [INSERT FR PAGE NUMBER], 12/19/2022.
| Shanghai Micro Electronics Equipment (Group) Co., Ltd., a.k.a., the following four aliases: —Shanghai Microelectronics (Group) Co., Ltd.; —Shanghai Micro Electronics Equipment Company; —Shanghai Microelectronics Equipment Company; and —SMEE. No. 1525 Zhangdong Road, Pilot Free Trade Zone, Shanghai, China. | For all items subject to the EAR. (See § 744.11 of the EAR) | Presumption of denial | 87 FR [INSERT FR PAGE NUMBER], 12/19/2022.
| * * * * * *
| Shanghai Suowei Information Technology Co., Ltd., a.k.a., the following two aliases: —Beijing Suowei System Technology Co., Ltd.; and —Sysware. Room 516, Building 20, Lane 8633, Zhongchun Road, Minhang District, Shanghai, China; and Room 2104, No. 70, Caobao Road, Xuhui District, Shanghai, China; and Building 9, Aobei Science and Technology Park, No. 1 Baosheng South Road, Haidian District, Beijing, China. | For all items subject to the EAR. (See § 744.11 of the EAR) | Presumption of denial | 87 FR [INSERT FR PAGE NUMBER], 12/19/2022.
| * * * * * *
| Suzhou Cambricon Information Technology Co., Ltd., a.k.a., the following five aliases: —Suzhou Cambrian Information Technology Co., Ltd.; —Suzhou Cambricon IT; —Suzhou Cambrian IT; —Suzhou Cambricon; and —Suzhou Cambrian. Unit E502-3, International Science and Technology Park, No. 1355 Jinjihu Avenue, Suzhou Industrial Park, China. | For all items subject to the EAR. (See §§ 734.9(e)(2) and 744.11 of the EAR) ⁴ | Presumption of denial | 87 FR [INSERT FR PAGE NUMBER], 12/19/2022.
| * * * * * *
| System Equipment Co., Ltd. of the 28th Research Institute (Liyang), a.k.a. the following three aliases: —Liyang No. 28 System Equipment Co., Ltd.; —Liyang 28th System Equipment Co., Ltd.; and —CEV. No. 26 Yongsheng Road, Kunlun Street, Liyang City, China; and No. 90, East Pingling Road, Licheng Town, Liyang City, China; and No. 26, Shangshang Road, Licheng Town, Liyang City, Jiangsu Province, China. | For all items subject to the EAR. (See §§ 734.9(e)(2) and 744.11 of the EAR) ⁴ | Presumption of denial | 87 FR [INSERT FR PAGE NUMBER], 12/19/2022.
| * * * * * *
| Tenco Technology Company Ltd., a.k.a., the following four aliases: —Redd Forest Technology Company Limited; —Shenzhen Shengfaweiye Electronic Co., Ltd.; —Shenzhen Tenco Technology Co., Ltd.; and —Tenco International Co., Ltd. Room 2709, Block A, Jiahe Huaqiang Building, Shennan Middle Rd., F Shenzhen, Guangdong 518007, China; and Room 2709, Block A, Jiahe Building, Shennan Mid Road, Futian District, Shenzhen, 518000, China; and Room 311 3F Genplas Industrial Building, 56 Hoi Yuen Road, Kwun Kowloon, Hong Kong; and Room 15, 6F Corporation Square, 8 Lam Lok Street, Kowloon Bay, Hong Kong; and Room 801, Number 15, Building 14, Xiayousong Village, Longhua Street, Longhua District, Shenzhen, China 518000. | For all items subject to the EAR. (See § 744.11 of the EAR) | Presumption of denial | 84 FR 21236, 5/14/19. 85 FR 83769, 12/23/20. 87 FR [INSERT FR PAGE NUMBER], 12/19/2022.
| * * * * * *
| Tianjin Tiandi Weiye Technologies Co., Ltd., a.k.a., the following one alias: —Tiandy Technologies. No. 8, Huake 2nd Road, Binhai High-tech Zone (Huayuan), Tianjin, China 300384. | For all items subject to the EAR. (See § 744.11 of the EAR) | Presumption of denial | 87 FR [INSERT FR PAGE NUMBER], 12/19/2022.
| * * * * * *
| Xiong'an Cambricon Technology Co., Ltd., a.k.a. the following three aliases: —Xiong'an Cambrian Technology Co., Ltd.; —Xiong'an Cambricon; and —Xiong'an Cambrian. Leader Jin Street A-, Rongcheng County, Baoding City, Hebei Province, China No. 72-1. | For all items subject to the EAR. (See §§ 734.9(e)(2) and 744.11 of the EAR) ⁴ | Presumption of denial | 87 FR [INSERT FR PAGE NUMBER], 12/19/2022.
| Yangtze Memory Technologies Co., Ltd., a.k.a., the following three aliases: —Changjiang Cunchu; —YMTC; and —Changjiang Storage Technology. 88 Weilai 3rd Road, East Lake High-tech Development Zone, Wuhan, Hubei, China; and Room 104, Block A, Ziguang Information Port, Nanshan District, Shenzhen, China; and No. 88, Future 3rd Road, Donghu, New Technology Development Zone, Wuhan City, Hubei Province, China; and Building 45, No. 1387 Zhangdong Road, Pilot Free Trade Zone, Shanghai, China; and No. 18, Gaoxin 4th Road, Donghu New Technology Development Zone, Wuhan, China; and Room 3201, 32nd Floor, Hu Zhong Building, 213 Queen's Road East, Hong Kong. | For all items subject to the EAR. (See § 744.11 of the EAR) | Presumption of denial | 87 FR [INSERT FR PAGE NUMBER], 12/19/2022.
| * * * * * *
| Zhongke Xinliang (Beijing) Technology Co., Ltd., a.k.a., the following two aliases: —Xinlian Technology Co., Ltd.; and —Sinoinfoun. Room 131, 1st Floor, Building 3, No. 6, Fufeng Road, Science City, Fengtai District, Beijing, China; and 1103-2, Building 1, Beihang Science and Technology Park, No. 588 Feitian Road, National Civil Aerospace Industry Base, Shaanxi Province, Xi'an City, China. | For all items subject to the EAR. (See § 744.11 of the EAR) | Presumption of denial | 87 FR [INSERT FR PAGE NUMBER], 12/19/2022.
| * * * * * *
JAPAN | * * * * * *
| Yangtze Memory Technologies (Japan) Inc., a.k.a., the following one alias: —JYM Technology Co., Ltd. New Tokyo Building 2F, 3-3-1 Marunouchi, Chiyoda-ku, Tokyo 100-0005, Japan. | For all items subject to the EAR. (See § 744.11 of the EAR) | Presumption of denial | 87 FR [INSERT FR PAGE NUMBER], 12/19/2022.
* * * * * * *
* * * * * * *
³ For this entity, “items subject to the EAR” includes foreign-produced items that are subject to the EAR under § 734.9(g) of the EAR. See §§ 746.8 and 744.21 of the EAR for related license requirements, license review policy, and restrictions on license exceptions.
⁴ For this entity, “items subject to the EAR” includes foreign-produced items that are subject to the EAR under § 734.9(e)(2) of the EAR. See § 744.11(a)(2)(ii) for related license requirements and license review policy.

Supplement No. 6 to Part 744—[Amended]

3. Supplement no. 6 to part 744 is amended under CHINA, PEOPLE'S REPUBLIC OF, by removing the entity “Yangtze Memory Technologies Co., Ltd.”.

Matthew S. Borman,
Deputy Assistant Secretary for Export Administration.

[FR Doc. 2022-27151 Filed 12-15-22; 8:45 am]

BILLING CODE 3510-33-P